DEPARTMENT OF COMMERCE

National Oceanic and Atmospheric Administration

Notice of Approval: Final Management Plan for the Wells National Estuarine Research Reserve

AGENCY: Office for Coastal Management, National Ocean Service, National Oceanic and Atmospheric Administration, U.S. Department of Commerce.

ACTION: Notice of approval of the final management plan for the Wells National Estuarine Research Reserve.

SUMMARY: Notice is hereby given that the Office for Coastal Management, National Ocean Service, National Oceanic and Atmospheric Administration, U.S. Department of Commerce, approves the revised management plan for the Wells National Estuarine Research Reserve in Wells, Maine. In accordance with applicable federal regulations, the revised management plan will replace the plan previously approved in 2013. View the approved management plan at https://www.wellsreserve.org/writable/files/WellsNERR_ManagementPlan_2019-2024.pdf.

FOR FURTHER INFORMATION CONTACT: Adrianne Harrison of NOAA's Office for Coastal Management, by email at Adrianne.Harrison@noaa.gov, phone at 603-862-4272, or mail at: University of New Hampshire Gregg Hall Suite 148, 35 Colovos Rd, Durham NH 03824.

SUPPLEMENTARY INFORMATION: Pursuant to 15 CFR 921.33, a state must periodically revise its research reserve's management plan. Changes may be made only after written approval by NOAA; NOAA will approve amendments to management plans by notice in the Federal Register.

On July 23, 2019, NOAA issued a notice in the Federal Register announcing a thirty day public comment period for the revised management plan for the Wells Research Reserve. (84.141 FR page 35375). Responses to the written and oral comments, and an explanation of how comments were incorporated into the final revised plan, are available in appendix C of the revised plan. The Wells Research Reserve outlined how it will manage administration of its core program, and provided details regarding steps to be taken to enable the reserve to accomplish specific goals and objectives. Since December 2013, the reserve has implemented its core and system-wide programs; secured science, education, and conservation grants to serve southern Maine communities; made significant repairs and improvements to buildings including the installation of solar arrays to generate electricity; renovated the water tower; designed and installed climate change exhibit components in the visitor center; added a fully accessible trail at Wells Harbor; restored riverine and fisheries habitats in southern Maine watersheds; and helped partners acquire priority conservation lands. The revised management plan will serve as the guiding document for the 2,250-acre research reserve for the next five years.

NOAA has reviewed the impacts of the revised management plan and determined the revisions will not have a significant effect on the human environment and therefore qualifies for a categorical exclusion under NOAA Administrative Order 216-6A.

(Authority: 16 U.S.C. 1431 et seq.)

Keelin S. Kuipers,
Deputy Director, Office for Coastal Management, National Ocean Service, National Oceanic and Atmospheric Administration.

[FR Doc. 2020-04758 Filed 3-6-20; 8:45 am]

BILLING CODE 3510-08-P